NUCLEAR REGULATORY COMMISSION

10 CFR Part 26

[NRC-2009-0225]

RIN 3150-AI67

Revisions to Fitness for Duty Programs' Drug Testing Requirements

AGENCY: Nuclear Regulatory Commission.

ACTION: Regulatory basis.

SUMMARY: The U.S. Nuclear Regulatory Commission (NRC) is making available the regulatory basis for the ongoing proposed rulemaking effort to amend its regulations regarding drug testing requirements in NRC licensees' fitness for duty programs. The regulatory basis documents the reasoning upon which the NRC determined rulemaking was the appropriate course of action. In this regulatory basis, the NRC recommends developing a proposed rule that would enhance the ability of NRC licensees to detect and deter drug use and the alignment of the NRC's regulations with select drug testing provisions in the U.S. Department of Health and Human Services' “Mandatory Guidelines for Federal Workplace Drug Testing Programs” issued in 2008.

DATES: At this time, the NRC is not soliciting formal public comments on the materials identified in this document. There will be an opportunity for formal public comment on the proposed rule when it is published in the Federal Register.

ADDRESSES: Please refer to Docket ID NRC-2009-0225 when contacting the NRC about the availability of information regarding this document. You may access information related to this document, which the NRC possesses and is publicly available, using any of the following methods:

• Federal Rulemaking Web site: Go to http://www.regulations.gov and search for Docket ID NRC-2009-0225. Address questions about NRC dockets to Carol Gallagher; telephone: 301-492-3668; email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Scott C. Sloan, Office of Nuclear Reactor Regulation, U.S. Nuclear Regulatory Commission, Washington, DC 20555-0001; telephone: 301-415-1619; email: Scott.Sloan@nrc.gov.

SUPPLEMENTARY INFORMATION:

Additional Documents and Public Meetings

As the NRC continues its ongoing proposed rulemaking effort to amend the drug testing requirements of part 26 of Title 10 of the Code of Federal Regulations (10 CFR), the NRC will periodically make preliminary draft documents publicly available on the Federal rulemaking Web site, www.regulations.gov, under docket ID NRC-2009-0225. The availability of these documents informs stakeholders of the current status of the NRC's rulemaking development activities and provides preparatory material for future public meetings. The NRC is not instituting a public comment period on these materials, but the public is encouraged to participate in related public meetings. In addition, the public will be given ample opportunity to provide comments on the proposed rule upon its publication in the Federal Register. The NRC will post meeting notices to the NRC's Public Meeting Schedule Web site, http://www.nrc.gov/public-involve/public-meetings/index.cfm, 10 days prior to any meeting dates. Additional documents related to this proposed rulemaking, including meeting notices, will be made publically available on the Federal rulemaking Web site at https://www.regulations.gov, under Docket ID NRC-2009-0225. The Federal rulemaking Web site allows you to receive alerts when changes or additions occur in a docket folder. To subscribe: (1) Navigate to the docket folder (NRC-2009-0225); (2) click the “Email Alert” link; and (3) enter your email address and select how frequently you would like to receive emails (daily, weekly, or monthly).

Dated at Rockville, Maryland, this 19th day of June, 2013.
For the Nuclear Regulatory Commission.
Lawrence E. Kokajko,
Director, Division of Policy and Rulemaking.

[FR Doc. 2013-15687 Filed 6-28-13; 8:45 am]

BILLING CODE 7590-01-P